DEPARTMENT OF LABOR

Employment and Training Administration

[TA-W-74,649; TA-W-74,649a]

DST Systems, Inc., Including On-Site Leased Workers From Comsys Information Technology Services, Megaforce, and Kelly Services Kansas City, MO; DST Technologies, a Wholly Owned Subsidiary of DST Systems, Inc., Boston, MA; Amended Certification Regarding Eligibility To Apply for Worker Adjustment Assistance

In accordance with Section 223 of the Trade Act of 1974, as amended (“Act”), 19 U.S.C. 2273, the Department of Labor (Department) issued a Certification of Eligibility to Apply for Worker Adjustment Assistance on November 5, 2010, applicable to workers of DST Systems, Inc., including on-site leased workers from Comsys Information Technology Services, Megaforce, and Kelly Services, Kansas City, Missouri (subject firm). The workers supply technical services, such as sophisticated information processing, computer software services, and business solutions, to the financial services, communications, and healthcare industries. The Department's Notice was published in the Federal Register on November 18, 2011 (76 FR 70701).

At the request of the State agency, the Department reviewed the certification for workers of the subject firm.

DSI Technologies, a wholly owned subsidiary of DSI Systems, Inc., Boston, Massachusetts operated in conjunction with the Kansas City, Missouri location of DSI Systems, Inc.; both locations are part of an overall servicing operation, serve the same customer base, and are impacted by a shift in the supply of services abroad. Accordingly, the Department is amending this certification to include workers of DSI Technologies, Boston, Massachusetts.

The amended notice applicable to TA-W-74,649 is hereby issued as follows:

“All workers of DST Systems, Inc., including on-site leased workers from Comsys Information Technology Services, Megaforce, and Kelly Services, Kansas City, Missouri (TA-W-74,649) and DST Technologies, a wholly owned subsidiary of DST Systems, Inc., Boston, Massachusetts (TA-W-74,649A), who became totally or partially separated from employment on or after September 21, 2009, through November 5, 2012, and all workers in the group threatened with total or partial separation from employment on date of certification through two years from the date of certification, are eligible to apply for adjustment assistance under Chapter 2 of Title II of the Trade Act of 1974, as amended.”

Signed in Washington, DC, this 24th day of May, 2011.
Del Min Amy Chen,
Certifying Officer, Office of Trade Adjustment Assistance.

[FR Doc. 2011-13789 Filed 6-2-11; 8:45 am]

BILLING CODE 4510-FN-P